DEPARTMENT OF COMMERCE

Bureau of the Census

[Docket Number 0910011333-91334-01]

Annual Wholesale Trade Survey

AGENCY: Bureau of the Census, Commerce.

ACTION: Notice of Determination.

SUMMARY: The Bureau of the Census (Census Bureau) publishes this notice to announce that the Director has determined the need to conduct the Annual Wholesale Trade Survey (AWTS). Through this survey, the Census Bureau will collect data on annual sales, e-commerce sales, purchases, total operating expenses, year-end inventories held both inside and outside the United States, commissions, total operating revenue, and gross selling value, for three components of wholesale activity: wholesale distributors; manufacturers' sales branches and offices and agents, brokers, and electronic markets.

ADDRESSES: The Census Bureau will furnish report forms to organizations included in the survey. Additional copies are available upon written request to the Director, U.S. Census Bureau, Washington, DC 20233-0101.

FOR FURTHER INFORMATION CONTACT: John Miller, Service Sector Statistics Division, on (301) 763-2758 or by e-mail on john.p.miller@census.gov.

SUPPLEMENTARY INFORMATION: The AWTS is conducted each year for three components of wholesale activity: Wholesale distributors; manufacturers' sales branches and offices; and agents, brokers, and electronic markets. This survey collects information on annual sales, e-commerce sales, purchases, total operating expenses, year-end inventories held both inside and outside the Unites States, commissions, total operating revenue, and gross selling value. For wholesale distributors, the Census Bureau will collect data covering sales, e-commerce sales, year-end inventories held inside and outside the United States, purchases, and total operating expenses. For manufacturers' sales branches and offices, the Census Bureau will collect data covering annual sales, e-commerce sales, year-end inventories held inside and outside the United States and total operating expenses. For agents, brokers, and electronic markets, the Census Bureau will collect data covering commissions, total operating revenue, gross selling value, and total operating expenses. For more information on the components of wholesale activity covered under this survey, please see the North American Industry Classification System Web site at http://www.census.gov/eos/www/naics/index.html. The Census Bureau has determined that the conduct of this survey is necessary as these data are not available publicly on a timely basis from non-governmental or other government sources.

The Census Bureau will require a selected sample of firms engaging in the three covered wholesale activities in the United States to report in the 2009 AWTS. Companies are selected for this survey using a stratified random sample based on annual sales size with a company's probability of selection increasing with their annual sales size. We will furnish report forms to the firms covered by this survey in January 2010 and will require their submissions within 30 days after receipt. The sample of firms selected will provide, with measurable reliability, statistics on annual sales, e-commerce sales, purchases, total operating expenses, year-end inventories held both inside and outside the Unites States, commissions, total operating revenue, and gross selling value, for 2009.

Sections 182, 224, and 225 of title 13 of the United States Code authorizes the Census Bureau to take surveys that are necessary to furnish current data on the subjects covered by the major censuses. As part of this authorization, the Census Bureau conducts the AWTS to provide continuing and timely national statistics data on wholesale trade activity for the period between economic censuses. For 2009, the survey will, as it has in the past, operate as a sample of wholesale distributors; manufacturers' sales branches and offices; and agent, brokers, and electronic markets. The data collected in this survey will be similar to that collected in the past and within the general scope and nature of those inquiries covered in the economic census. These data are collected to provide a sound statistical basis for the formation of policy by various government agencies. These data will be available for use for a variety of public and business needs such as economic and market analysis, company performance, and forecasting future demand.

Notwithstanding any other provision of law, no person is required to respond to, nor shall a person be subject to a penalty for failure to comply with, a collection of information subject to requirements of the Paperwork Reduction Act (PRA) unless that collection of information displays a current valid Office of Management and Budget (OMB) control number. In accordance with the PRA, 44 U.S.C. 3501-3521, OMB approved the AWTS under OMB control number 0607-0195.

Based upon the foregoing, I have directed that the annual survey be conducted for the purpose of collecting these data.

Dated: October 28, 2009.
Robert M. Groves,
Director, Bureau of the Census.

[FR Doc. E9-26285 Filed 10-30-09; 8:45 am]

BILLING CODE 3510-07-P